FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 15, 2016.

A. Federal Reserve Bank of New York (Ivan Hurwitz, Vice President) 33 Liberty Street, New York, New York 10045-0001:

1. Pathfinder Bank Employee Stock Ownership Plan Trust, Oswego, New York; to acquire additional voting shares of Pathfinder Bancorp Inc., Oswego, New York.

B. Federal Reserve Bank of Cleveland (Nadine Wallman, Vice President) 1455 East Sixth Street, Cleveland, Ohio 44101-2566:

1. The McComb Family, as a group, consisting of Gregory Scott McComb, Blacklick, Ohio, Camilla Lorraine McComb, Ypsilanti, Michigan, and Debra L. McComb, New Albany, Ohio; to retain voting shares of Heartland BancCorp, and thereby indirectly retain voting shares of Heartland Bank, both in Gahanna, Ohio.

Board of Governors of the Federal Reserve System, December 28, 2015.
Michael J. Lewandowski,
Associate Secretary of the Board.

[FR Doc. 2015-32956 Filed 12-30-15; 8:45 am]

BILLING CODE 6210-01-P